DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on November 6-7, 2006. On November 6, the session will be held in the Community Center, Dallas VA Medical Center, 4500 South Lancaster Road, Dallas, Texas, from 9 a.m. until 6:15 p.m. On November 7, the session will be held at the Dallas/Fort Worth Airport Marriott-North, 8440 Freeport Parkway, Irving, Texas, from 8:30 a.m. until 3 p.m. All sessions will be open to the public.

The purpose of the Committee is to provide advice and make recommendations to the Secretary of Veterans Affairs on proposed research studies, research plans and research strategies relating to the health consequences of military service in the Southwest Asia Theater of operations during the Gulf War.

The Committee will review VA program activities related to Gulf War veterans' illnesses and updates on scientific research on Gulf War illnesses published since the last Committee meeting. Additionally, there will be scientific presentations on research programs and studies related to Gulf War illnesses at the University of Texas Southwestern Medical School, an update on the VA Gulf War tissue repository, and discussion of committee business and activities.

Members of the public may attend and present oral statements. Oral presentations will be limited to five minutes each. Individuals presenting oral statements are invited to submit 1-2 page summaries of their comments at the time of the meeting for inclusion in the official meeting record. Members of the public may also submit written statements for the Committee's review to Dr. Lea Steele, RAC-Gulf War Veterans' Illnesses (T-GW), U.S. Department of Veterans Affairs, 2200 S.W. Gage Blvd., Topeka, KS 66622.

Any member of the public seeking additional information should contact Dr. William Goldberg, Designated Federal Officer, at (202) 254-0294 or Dr. Steele, Scientific Director, at (785) 350-3111 ext. 54617.

Dated: October 19, 2006.
By direction of the Secretary.
E. Philip Riggin,
Committee Management Officer.

[FR Doc. 06-8906 Filed 10-25-06; 8:45 am]

BILLING CODE 8320-01-M